SURFACE TRANSPORTATION BOARD

[Docket No. FD 36000]

Genesee & Wyoming Inc.—Continuance in Control Exemption—Olympia & Belmore Railroad, Inc.

Genesee & Wyoming Inc. (GWI), a publicly traded noncarrier holding company, has filed a verified notice of exemption pursuant to 49 CFR 1180.2(d)(2) to continue in control of Olympia & Belmore Railroad, Inc. (OBRR), a noncarrier, upon OBRR's becoming a Class III railroad.

This transaction is related to a concurrently filed verified notice of exemption in Olympia & Belmore Railroad—Lease and Operation Exemption Including Interchange Commitment—BNSF Railway, Docket No. FD 35999, wherein OBRR seeks Board approval under 49 CFR 1150.31 to lease from BNSF Railway Company (BNSF), and to operate, approximately 13.06 miles of rail consisting of the following: (1) 5.50 miles of track between milepost 9.07 near Olympia, Wa., and milepost 14.57 near Belmore, Wa., in Thurston County, Wa.; (2) incidental overhead trackage rights over approximately 7.56 miles of Union Pacific Railroad Company track between East Olympia, Wa., and Olympia, Wa.; and (3) joint use of terminal trackage at Olympia, Wa.

This transaction may be consummated on March 13, 2016, the effective date of the exemption (30 days after the verified notice of exemption was filed).

GWI notes that it currently controls, directly or indirectly, two Class II carriers and 105 Class III carriers operating in the United States.

GWI represents that: (1) None of the railroads controlled by GWI would connect with the line being leased and operated by OBRR; (2) the continuance in control is not part of a series of anticipated transactions that would connect the line to be operated by OBRR with the rail lines of any carriers in GWI's corporate family; and (3) the transaction does not involve a Class I rail carrier. The proposed transaction is therefore exempt from the prior approval requirements of 49 U.S.C. 11323 pursuant to 49 CFR 1180.2(d)(2).

GWI states that the proposed transaction will allow OBRR to take advantage of the administrative, financial, marketing and operational support that GWI and its existing subsidiary railroads can provide, thus promoting the ability of OBRR to provide safe and efficient service to their shippers.

Under 49 U.S.C. 10502(g), the Board may not use its exemption authority to relieve a rail carrier of its statutory obligation to protect the interests of its employees. As a condition to the use of this exemption, any employees adversely affected by this transaction will be protected by the conditions set forth in New York Dock Railway—Control—Brooklyn Eastern District Terminal, 360 I.C.C 60 (1979).

If the verified notice contains false or misleading information, the exemption is void ab initio. Petitions to revoke the exemption under 49 U.S.C. 10502(d) may be filed at any time. The filing of a petition to revoke would not automatically stay the effectiveness of the exemption. Petitions for stay must be filed no later than March 4, 2016 (at least 7 days before the exemption becomes effective).

An original and 10 copies of all pleadings, referring to Docket No. FD 36000 must be filed with the Surface Transportation Board, 395 E Street SW., Washington, DC 20423-0001. In addition, one copy of each pleading must be served on applicant's representative, Eric M. Hocky, Clark Hill, PLC, One Commerce Square, 2005 Market Street, Suite 1000, Philadelphia, PA 19103.

Board decisions and notices are available on our Web site at “WWW.STB.DOT.GOV”.

Decided: February 23, 2016.
By the Board, Rachel D. Campbell, Director, Office of Proceedings.
Tia Delano,
Clearance Clerk.

[FR Doc. 2016-04140 Filed 2-25-16; 8:45 am]

BILLING CODE 4915-01-P